DEPARTMENT OF COMMERCE

National Oceanic and Atmospheric Administration

50 CFR Part 600

[I.D. 110200A]

Magnuson-Stevens Act Provisions; General Provisions for Domestic Fisheries; Applications for Exempted Fishing Permits (EFPs)

AGENCY: National Marine Fisheries Service (NMFS), National Oceanic and Atmospheric Administration (NOAA), Commerce.

ACTION: Notification of a proposal for EFPs to conduct experimental fishing; request for comments.

SUMMARY: NMFS announces that the Administrator, Northeast Region, NMFS (Regional Administrator), has made a preliminary determination to issue EFPs to conduct experimental fishing operations otherwise restricted by the regulations governing the fisheries of the Northeastern United States. Captains Bill Lee and Robert Fisher submitted an application for the issuance of EFPs, which warrants further consideration. The EFPs would allow two commercial vessels to conduct trawl net gear trials with two modified nordmore-style grates in a portion of the Gulf of Maine/Georges Bank Regulated Mesh Area. EFPs would allow for exemptions to the gear restrictions, retention of catch potentially in excess of the possession limits for the purposes of data collection, and exempt vessels from Northeast Multispecies days-at-sea (DAS) requirements. Commercial scale gear trials would look at the interaction of the modified nordmore-style grate and trawl gear with groundfish species; specifically, how the grate and the escape chute, which have been designed to release cod bycatch in the winter flounder fishery, would perform under commercial fishing conditions.

Regulations under the Magnuson-Stevens Act provisions require publication of this notification to provide interested parties the opportunity to comment on the proposed experimental fisheries.

DATES: Comments on this notification must be received by November 28, 2000.

ADDRESSES: Written comments should be sent to the Patricia A. Kurkul, Regional Administrator, NMFS, Northeast Regional Office, 1 Blackburn Drive, Gloucester, MA 01930. Mark the outside of the envelope “Comments on Proposed EFP Proposal.” Comments may also be sent via facisimile (fax) to (978) 281-9135. Comments will not be accepted if submitted via e-mail or the Internet.

FOR FURTHER INFORMATION CONTACT: Bonnie Van Pelt, Fishery Management Specialist, 978-281-9244.

SUPPLEMENTARY INFORMATION: On October 18, 2000, Captains Lee and Fisher submitted an application to conduct exempted experimental fishing activities involving commercial gear trials with two modified nordmore-style grates assembled on standard Yankee trawls (modified trawls). This short-term investigation will provide information on the modified trawl gear performance and ability to selectively target winter flounder (Pleuronectes americanus) and reduce the rate of bycatch of Atlantic cod (Gadus morhua) in the overall catch. The experiment proposes to conduct preliminary gear trials in the shallow waters of Ipswich Bay through video observation of the trawl and modified grate configuration while under tow. The next stage of the gear trials involves a series of 15-minute tows with the grate angled at eight different positions to test for bycatch separation through the escape chute mechanism positioned at the top of the grate. The angle that produces the greatest separation of cod from flounder will be selected for the commercial scale trials in deeper waters. The final phase is designed to produce statistically valid data on the rate of reduction of cod bycatch as a result of the gear modifications. Four 1-hour parallel tows will be made on each of 4 consecutive days in the following sequence: Day 1, control net (standard trawl nets with 6.5-inch (16.5 cm) square codend) towed against a second control net; Day 2, control and experimental net towed in parallel; Day 3, switch the control and experimental nets between the two vessels; and Day 4, both vessels tow experimental nets in parallel. This tow sequence will be duplicated in two different bottom habitats; one primarily sand and the other mud. Therefore, a total of 32 tows with both the experimental and the control nets will be performed in each of two test sites. The entire experiment will require the use of 22 days to complete all phases of gear testing, from the preliminary tests in shallow water to the commercial scale testing in two deeper water sites.

Two nordmore-style grates have been constructed for use in these gear trials. One is made of plastic and the other of steel. Both grates are approximately 40-inches (101.6 cm) in width by 48-inches (121.9 cm) in length. The openings of the grate will lie horizontally and will decrease in aperture from 10-inches (25.4 cm) at the lowest bar spacing, becoming progressively smaller in 2-inch (5.1 cm) increments, until the fifth bar from the bottom, where they remain at the 2-inch bar spacing for the remainder of the upper portion of the grate. The modified nordmore-style grates will be fitted into a standard inshore Yankee trawl with a sweep measuring 80 ft (24.38 m) at the top and 60 ft (18.28 m) at the bottom. Any variability in vessel towing power and efficiency will be alleviated through the parallel gear testing sequence designed to quantify this variability.

All catch brought on board the vessels will be sorted and measured and returned to the sea immediately. It is estimated that the average maximum catch rate would be 6,720 to 8,400 lb (3,048 to 3,810 kg), based on a total towing time of 84 hours and a maximum average catch rate of 80 to 100 lb (36.3 to 45.4 kg) per 4-hour tow. Projections for average catch rates in the experimental net under experimental towing conditions are 5,040 lb (2,286 kg) based 84-hours total tow time, assuming that approximately 80 percent of the cod escape and that the catch composition on the bottom is 50 percent flounder and 50 percent cod and the total catch retained is 60 lb (27.2 kg)--50 lb flounder, 10 lb cod. The current net design has about a 20 percent bycatch of all other incidental species, including crabs, lobsters, whiting, and hake.

All data will be recorded by a biologist who will perform statistical analyses on significance demonstrating the ability of the experimental net configuration to separate cod bycatch from the targeted catch, flounder. A report and a short video to show the grate under construction and functioning in the water will be supplied to the Northeast Consortium. It is projected that this study may lead to other studies to further refine and develop a modified trawl net that will selectively fish for flatfish, while avoiding roundfish species (i.e., cod and monkfish) in soft mud and sandy bottom habitats.

EFPs would be issued to two participating vessels in accordance with the conditions stated therein, and will exempt vessels from the gear restrictions and DAS requirements of the Fishery Management Plan for the Northeast Multispecies Fishery.

Authority: 16 U.S.C. 1801 et seq.

Dated: November 6, 2000.
Bruce Morehead,
Acting Director, Office of Sustainable Fisheries, National Marine Fisheries Service.

[FR Doc. 00-28951 Filed 11-09-00; 8:45 am]

BILLING CODE: 3510-22-S